UNITED STATES INSTITUTE OF PEACE

Notice of Meeting

Agency: United States Institute of Peace.

Date/Time: Friday, July 22, 2016 (10:00 a.m.-2:15 p.m.).

Location: 2301 Constitution Avenue NW., Washington, DC 20037.

Status: Open Session—Portions may be closed pursuant to Subsection (c) of Section 552(b) of Title 5, United States Code, as provided in subsection 1706(h)(3) of the United States Institute of Peace Act, Public Law 98-525.

Agenda: Approval of Minutes of the One Hundred Fifty-eighth Meeting (April 25, 2016) of the Board of Directors; Chairman's Report; Vice Chairman's Report; President's Report; Reports from USIP Board Committees; Global Peacebuilding Center: Engaging the American People Presentation and Discussion; Iraq Update; PeaceTech Discussion.

Contact: Nick Rogacki, Special Assistant to the President, Email: nrogacki@usip.org

Dated: July 11, 2016.
Nicholas Rogacki,
Special Assistant to the President.

[FR Doc. 2016-16785 Filed 7-15-16; 8:45 am]

BILLING CODE 6820-AR-P